GENERAL SERVICES ADMINISTRATION

48 CFR Part 513

[GSAR Case 2007-G502; Docket 2008-0007; Sequence 16]

RIN 3090-AI67

General Services Acquisition Regulation; GSAR Case 2007-G502; Rewrite of GSAR Part 513, Simplified Acquisition Procedures

AGENCY: Office of the Chief Acquisition Officer, General Services Administration (GSA).

ACTION: Proposed rule.

SUMMARY: The General Services Administration (GSA) is proposing to amend the General Services Acquisition Regulation (GSAR) to revise and update the agency's implementation of the Federal Acquisition Regulation (FAR) Part 13, Simplified Acquisition Procedures.

DATES: Interested parties should submit written comments to the Regulatory Secretariat on or before September 30, 2008 to be considered in the formulation of a final rule.

ADDRESSES: Submit comments identified by GSAR Case 2007-G502 by any of the following methods:

• Regulations.gov: http://www.regulations.gov. Submit comments via the Federal eRulemaking portal by inputting “GSAR Case 2007-G502” under the heading “Comment or Submission”. Select the link “Send a Comment or Submission” that corresponds with GSAR Case 2007-G502. Follow the instructions provided to complete the “Public Comment and Submission Form”. Please include your name, company name (if any), and “GSAR Case 2007-G502” on your attached document.

• Fax: 202-501-4067.

• Mail: General Services Administration, Regulatory Secretariat (VPR), 1800 F Street, NW, Room 4041, ATTN: Laurieann Duarte, Washington, DC 20405.

Instructions: Please submit comments only and cite GSAR Case 2007-G502 in all correspondence related to this case. All comments received will be posted without change to http://www.regulations.gov, including any personal and/or business confidential information provided.

FOR FURTHER INFORMATION CONTACT For clarification of content, contact Ms. Meredith Murphy at (202) 208-6925. For information pertaining to the status or publication schedules, contact the Regulatory Secretariat (VPR), Room 4041, GS Building, Washington, DC 20405, (202) 501-4755. Please cite GSAR Case 2007-G502.

SUPPLEMENTARY INFORMATION:

A. Background

This is part of the GSAM Rewrite Project, initiated in 2006 to revise, update, and simplify the GSAM. An Advance Notice of Proposed Rulemaking (ANPR), with a request for comments, was published in the Federal Register at 71 FR 7910, February 15, 2006. No public comments were received in response to Part 513. Prior to publication of this proposed rule, the draft coverage was circulated within GSA to the Services and regions. A total of 57 comments, from within the agency, were received from 16 commenters. The proposed rule incorporates those recommendations where appropriate. The current GSAM Part 513 implements three of the FAR Part 13 subparts and the policy at 513.003. There are no clauses associated with Part 513, and no supplementary subparts. The proposed rule deletes the policy statement at 513.003 and certain GSA-specific forms that are redundant to standard or optional forms in the FAR, as well as the GSAM text associated with them.

The GSA review team noted that GSAR Part 513 material currently coded as regulatory, i.e., GSAR, does not, in fact, contain regulatory material. GSAR 513.302-70, 513.303-3(a) and (b), and 513.307 are considered policy because these sections merely direct contracting officers to use certain forms in certain circumstances, and to include any geographic limitations and instructions in Blanket Purchase Agreements (BPAs). There are no clauses or solicitation provisions in these sections. Therefore, the team has recommended changing the referenced material (formerly shaded gray) to GSAM rather than GSAR. The effect is to remove all of the Part 513 GSAR material. However, this former GSAR material has been retained, with some modifications, in the GSAM, which will also be available to the public on the GSAM web site, once the revisions are made final.

The following sections explain in detail the changes that are proposed to the former GSAR, now GSAM, Part 513 coverage. This information is not being provided for comment, but rather to simply notify the reader about changes to the former GSAR, now GSAM.

513.302-70: References to electronic processing systems were updated at 513.302-70, and paragraph (f) relating to the outdated Standard Form (SF) 44 procedure was deleted. The GSA Forms 300 and 300A, Order for Supplies and Services, and Order for Supplies and Services—Continuation, respectively, are proposed for removal in favor of the preferred Optional Form (OF) 347, Order for Supplies and Services, and OF 348, Order for Supplies or Services—Continuation. These forms are outdated for a number of reasons:

• Part 553 shows GSA Forms 300 and 300A as being 14 pages in length; effectively, however, it is a two-page form (Form 300 is the front and Form 300A is the back) repeated seven times. With electronic commerce, those additional copies are no longer needed.

• The form is required to be printed and used in a pin-feed format, an outdated technology.

• The second page of the form contains outdated clauses. Also, including clauses on a GSA form does not allow for frequently required updates.

• Variations of the GSA Forms 300 and 300A are in use in at least four different software systems: NEAR, Pegasys, ITSS, and Comprison. However, none of these four systems uses the actual Form 300, and all four systems have modified the Form 300—but each has modified the form in different ways. In other words, there is not a single consistent format being used for the GSA Form 300 at GSA.

OF 347 and OF 348 are very similar to the GSA Forms 300 and 300A, without the outdated and duplicative elements of the latter. FAR Drafting Conventions establish an order of preference as follows: Standard Forms first, Optional Forms second, and agency-specific forms third. GSA is in the process of procuring a new billing and invoicing system. This should provide the ideal opportunity to change over from the GSA forms to the Optional Forms and to make all processes consistent. However, we recognize that the change will take some time to complete, and we propose to delay the effective date for cancellation of the GSA Forms 300 and 300A six months beyond the effective date of GSAM Part 513. The delayed effective date will be accomplished as part of the GSA Order implementing the revised Part 513.

513.303-3: The GSAM addresses four key areas of Blanket Purchase Agreements (BPAs) that have presented the most procedural issues for procurement personnel. Therefore, the existing GSAM 513.303-3 is retained, but it is modified to include reference to the GSA Form 3521, Blanket Purchase Agreement. Also, an outdated reference to GSA 525.570 was deleted.

513.307: This section currently is a single line authorizing the use of the GSA Form 3521 for preparation of a blanket purchase agreement. GSA is retaining the form but moving the reference to 513.303, Blanket purchase agreements (BPAs).

This is not a significant regulatory action and, therefore, was not subject to review under Section 6(b) of Executive Order 12866, Regulatory Planning and Review, dated September 30, 1993. This rule is not a major rule under 5 U.S.C. 804.

B. Regulatory Flexibility Act

The General Services Administration does not expect this proposed rule to have a significant economic impact on a substantial number of small entities within the meaning of the Regulatory Flexibility Act, 5 U.S.C. 601, et seq., because the changes are primarily editorial in nature. An Initial Regulatory Flexibility Analysis has, therefore, not been performed. We invite comments from small businesses and other interested parties. GSA will consider comments from small entities concerning the affected GSAR Part 513 in accordance with 5 U.S.C. 610. Interested parties must submit such comments separately and should cite 5 U.S.C. 601, et seq. (GSAR case 2007-G502), in correspondence.

C. Paperwork Reduction Act

The Paperwork Reduction Act does not apply because the proposed changes to the GSAM do not impose information collection requirements that require the approval of the Office of Management and Budget under 44 U.S.C. 3501, et seq.

List of Subjects in 48 CFR Part 513

Government procurement.

Dated: July 24, 2008.
Al Matera,
Director, Office of Acquisition Policy.

Therefore, under the authority of 40 U.S.C. 121(c), GSA proposes to remove 48 CFR part 513.

PART 5137—[REMOVED]

[FR Doc. E8-17549 Filed 7-31-08; 8:45 am]

BILLING CODE 6820-61-S